DEPARTMENT OF DEFENSE

Office of the Secretary

Department of Defense Board of Actuaries

AGENCY: Department of Defense.

ACTION: Notice of Meeting.

SUMMARY: Under the provision of the Federal Advisory Committee Act of 1972 (5 U.S.C., appendix as amended), the Government in the Sunshine Act of 1976 (5 U.S.C. 552b as amended), and 41 CFR 102-3.150, the Department of Defense announces that the following Federal Advisory Committee meeting of the Department of Defense Board of Actuaries will take place:

DATES: August 28, 2008 (1 p.m.-5 p.m.) and August 29, 2008 (10 a.m.-1 p.m.).

ADDRESSES: 4040 N. Fairfax Drive, Suite 270, Arlington, VA 22203.

FOR FURTHER INFORMATION CONTACT: Inger Pettygrove at the DoD Office of the Actuary, 4040 N. Fairfax Drive, Suite 308, Arlington, VA 22203.

SUPPLEMENTARY INFORMATION: Purpose of the meeting: The purpose of the meeting is for the Board to review DoD actuarial methods and assumptions to be used in the valuations of the Education Benefits Fund, the Military Retirement Fund, and the Voluntary Separation Incentive Fund, in accordance with the provisions of Section 183, Section 2006, Chapter 74 (10 U.S.C. 1464 et seq.), and Section 1175 of Title 10, United States Code.

Agenda: Education Benefits Fund (August 28, 1 p.m.-5 pm).

Briefing on Investment Experience.

Development in Education Benefits.

Economic Assumptions*.

September 30, 2007 Valuation and Proposed Per Capita and Amortization Costs Reserve Programs*.

September 30, 2007 Valuation and Proposed Per Capita and Amortization Costs Active Duty Programs*.

Military Retirement Fund and Voluntary Separation Incentive Fund (August 29, 10 a.m.-1 p.m.).

Briefing on Retirement Fund Investment Experience.

September 30, 2007, Valuation of the Military Retirement System*.

Methods and Assumptions for September 30, 2008, Valuation*.

Voluntary Separation Incentive (VSI) Fund*.

Recent and Proposed Legislation.

*Board approval required.

Public's Accessibility to the Meeting: Pursuant to 5 U.S.C. 552b and 41 CFR 102-3.140 through 102-3.165, and the availability of space, this meeting is open to the public. Seating is on a first-come basis.

Committee's Designated Federal Officer Point of Contact: Persons desiring to attend the Board of Actuaries meeting or make an oral presentation or submit a written statement for consideration at the meeting must notify Inger Pettygrove at 703-696-7413 by August 21, 2008.

Dated: July 7, 2008.
Patricia L. Toppings,
OSD Federal Register Liaison Officer, Department of Defense.

[FR Doc. E8-15921 Filed 7-11-08; 8:45 am]

BILLING CODE 5001-06-P